DEPARTMENT OF COMMERCE

Foreign-Trade Zones Board

[S-15-2019]

Foreign-Trade Zone 18—San Jose, California; Subzone 18G Application for Expansion; Tesla, Inc., Livermore, California

An application has been submitted to the Foreign-Trade Zones (FTZ) Board by the City of San Jose, grantee of FTZ 18, requesting expanded subzone status for the facilities of Tesla, Inc. (Tesla), in Livermore, California. The application was submitted pursuant to the provisions of the Foreign-Trade Zones Act, as amended (19 U.S.C. 81a-81u), and the regulations of the FTZ Board (15 CFR part 400). It was formally docketed on February 12, 2019.

Subzone 18G currently consists of the following sites: Site 1 (25.28 acres)—3500 Deer Creek Rd, Palo Alto (Santa Clara County); Site 2 (265.88 acres)—45500 Fremont Blvd., Fremont; Site 3 (10 acres)—2875 Prune Ave, Fremont; Site 4 (39.21 acres)—901 and 1055 Page Ave and 47700 Kato Rd., Fremont; Site 5 (15.79)—47400 Kato Rd., Fremont; Site 6 (31.91 acres)—6800 and 6900 Dumbarton Circle, Fremont; Site 7 (0.67 acres)—3777 and 3785 Spinnaker Court, Fremont; Site 8 (14.93 acres)—31353 Huntwood Ave., Hayward; Site 9 (6.16 acres)—6753 Mowry Ave, Newark; Site 10 (4.25 acres)—1250 Elko Dr. Sunnyvale (Santa Clara County); and, Site 11 (10.60 acres)—1710 Little Orchard St., San Jose.

The proposed expanded subzone would include the following additional sites: Site 12 (18.8 acres), 800 Atlantis Street, Livermore; and, Site 13 (32.5 acres), 201 Discovery Avenue, Livermore. Because some of the sites of the proposed expanded subzone are outside FTZ 18's Alternative Site Framework (ASF) service area, authorization of the expanded subzone would not be under the ASF. No authorization for expanded production activity has been requested at this time. The proposed subzone would be subject to the existing activation limit of FTZ 18.

In accordance with the FTZ Board's regulations, Christopher Kemp of the FTZ Staff is designated examiner to review the application and make recommendations to the Executive Secretary.

Public comment is invited from interested parties. Submissions shall be addressed to the FTZ Board's Executive Secretary at the address below. The closing period for their receipt is April 1, 2019. Rebuttal comments in response to material submitted during the foregoing period may be submitted during the subsequent 15-day period to April 15, 2019.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Christopher Kemp at Christopher.Kemp@trade.gov or (202) 482-0862.

Dated: February 12, 2019.
Andrew McGilvray,
Executive Secretary.

[FR Doc. 2019-02590 Filed 2-15-19; 8:45 am]

BILLING CODE 3510-DS-P